SECURITIES AND EXCHANGE COMMISSION

[OMB Control No. 3235-0258]

Agency Information Collection Activities; Proposed Collection; Comment Request; Extension: Form F-1—Registration Statement

Notice is hereby given that, pursuant to the Paperwork Reduction Act of 1995 (44 U.S.C. 3501 et seq.), the Securities and Exchange Commission (“Commission”) is soliciting comments on the collection of information summarized below. The Commission plans to submit this existing collection of information to the Office of Management and Budget for extension and approval.

Form F-1 (17 CFR 239.31) is used by certain foreign private issuers to register securities pursuant to the Securities Act of 1933 (15 U.S.C. 77a et seq.). The information collected is intended to ensure the adequacy of information available to investors in connection with securities offerings. We estimate that Form F-1 takes approximately 1,610.36 hours per response and is filed once per year by approximately 270 respondents, for a total of approximately 270 responses annually. We estimate that 25% of the 1,610.36 hours per response is carried internally by the issuer for a total annual reporting burden of 108,699 hours ((1,610.36 hours per response × 25%) × 270 responses). We estimate that 75% of the 1,610.36 hours per response is carried externally by outside professionals retained by the issuer at an estimated rate of $600 per hour for a total annual cost burden of $195,658,740 ((75% × 1,610.36 hours per response) × $600 per hour × 270 responses).

An agency may not conduct or sponsor, and a person is not required to respond to, a collection of information unless it displays a currently valid OMB control number.

Written comments are invited on: (a) whether this proposed collection of information is necessary for the proper performance of the functions of the agency, including whether the information will have practical utility; (b) the accuracy of the agency's estimate of the burden imposed by the collection of information; (c) ways to enhance the quality, utility, and clarity of the information collected; and (d) ways to minimize the burden of the collection of information on respondents, including through the use of automated collection techniques or other forms of information technology.

Please direct your written comments on this 60-Day Collection Notice to Austin Gerig, Director/Chief Data Officer, Securities and Exchange Commission, c/o Tanya Ruttenberg via email to PaperworkReductionAct@sec.gov by March 16, 2026. There will be a second opportunity to comment on this SEC request following the Federal Register publishing a 30-Day Submission Notice.

Dated: January 12, 2026.
J. Matthew DeLesDernier,
Deputy Secretary.

[FR Doc. 2026-00638 Filed 1-14-26; 8:45 am]

BILLING CODE 8011-01-P